DEPARTMENT OF THE TREASURY

Office of Foreign Assets Control

Additional Designation of Entities and Individuals Pursuant to Executive Order 12978

AGENCY: Office of Foreign Assets Control, Treasury.

ACTION: Notice.

SUMMARY: The Treasury Department's Office of Foreign Assets Control (“OFAC”) is publishing the names of 19 newly-designated individuals and 16 newly-designated entities whose property and interests in property are blocked pursuant to Executive Order 12978 of October 21, 1995, “Blocking Assets and Prohibiting Transactions with Significant Narcotics Traffickers” (the “Order”). In addition, OFAC is also publishing the name of one individual who has been re-designated and whose property and interests in property continue to be blocked pursuant to the Order.

DATES: The designation by the Director of OFAC of the 19 individuals and 16 entities, as well as the re-designation of one individual, identified in this notice pursuant to Executive Order 12978 is effective on January 14, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service, tel.: (202) 622-0077.

Background

On October 21, 1995, the President, invoking the authority, inter alia, of the International Emergency Economic Powers Act (50 U.S.C. 1701-1706), issued the Order. In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and the Secretary of State, to play a significant role in international narcotics trafficking centered in Colombia, or materially to assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On January 14, 2010, the Director of OFAC, in consultation with the Departments of Justice, State, and Homeland Security, designated 19 individuals and 16 entities, and re-designated one individual, whose property and interests in property are blocked pursuant to the Order.

The list of designees is as follows:

Re-Designated Individual

1. QUINTERO SANCLEMENTE, Ramon Alberto (a.k.a. “Lucas”; a.k.a. “El Ingeniero”; a.k.a. “Don Tomas”); Carrera 16 No. 3-15, Buga, Valle, Colombia; DOB 30 Nov 1960; Alt. DOB 28 Nov 1958; Alt. DOB 30 Nov 1961; POB Cali, Colombia; Alt. POB Buga, Valle, Colombia; Citizen Colombia; Cedula No. 14881147 (Colombia); Passport AE048871 (Colombia); (INDIVIDUAL) [SDNT].

Individuals

1. CIFUENTES VARGAS, Carmen Viviana, c/o INVERSIONES EN GANADERIA JESSICA, Cali, Colombia; DOB 19 Jun 1964; POB Buga, Valle, Colombia; Cedula No. 38863513 (Colombia); Passport PO67538 (Colombia); (INDIVIDUAL) [SDNT].

2. CIFUENTES VARGAS, Orlando (a.k.a. “El Chute”); c/o RESTAURANTE BAR PUNTA DEL ESTE, Cali, Colombia; c/o SERVIAGRICOLA CIFUENTES E.U., Cali, Colombia; DOB 10 Jun 1965; Cedula No. 14890941 (Colombia); (INDIVIDUAL) [SDNT].

3. CIFUENTES VARGAS, Yanet (a.k.a. “La Pecosa”); Carrera 2 Oeste No. 51-51, Cali, Colombia; DOB 01 Aug 1963; POB Buga, Valle, Colombia; Cedula No. 38864607 (Colombia); Passport AI988963 (Colombia); (INDIVIDUAL) [SDNT].

4. DOMINGUEZ VELEZ, Jorge Enrique (a.k.a. “El Onli”); c/o ERA DE LUZ LTDA. LIBRERIA CAFE, Cali, Colombia; DOB 09 Aug 1968; Cedula No. 16767305 (Colombia); (INDIVIDUAL) [SDNT].

5. GIRALDO HERNANDEZ, Adriana Maria, c/o UNIVISA S.A., Cali, Colombia; c/o V.I.P. PRODUCCIONES E.U., Cali, Colombia; DOB 08 Mar 1961; Cedula No. 31857952 (Colombia); Passport AF234411 (Colombia); (INDIVIDUAL) [SDNT].

6. GONZALEZ BOHORQUEZ, Guillermo, c/o UNIVISA S.A., Cali, Colombia; DOB 20 Dec 1944; POB Buga, Valle, Colombia; Cedula No. 6185654 (Colombia); Passport AJ772175 (Colombia); (INDIVIDUAL) [SDNT].

7. GONZALEZ SANCLEMENTE, Alejandro, c/o IMERCO LTDA., San Pedro, Valle, Colombia; DOB 26 Feb 1960; POB Buga, Valle, Colombia; Cedula No. 14882775 (Colombia); (INDIVIDUAL) [SDNT].

8. GONZALEZ SANCLEMENTE, Fernando, Colombia; DOB 16 Jul 1963; Cedula No. 14884862 (Colombia); (INDIVIDUAL) [SDNT].

9. GONZALEZ SANCLEMENTE, Jose Alberto, c/o AGROINDUSTRIAS JORDANES S.A., Cali, Colombia; c/o FEGO CANA E.U., Cali, Colombia; c/o IMERCO LTDA., San Pedro, Valle, Colombia; DOB 10 Sep 1971; Alt. DOB 09 Oct 1971; POB Buga, Valle, Colombia; Cedula No. 14894820 (Colombia); (INDIVIDUAL) [SDNT].

10. GUTIERREZ AGUIRRE, Duffay (a.k.a. “El Gordo Duffay”); Bogota, Colombia; DOB 16 Sep 1968; POB Buga, Valle, Colombia; Cedula No. 14892384 (Colombia); Matricula Mercantil No 01302280 (Colombia); (INDIVIDUAL) [SDNT].

11. LOPEZ RODRIGUEZ, Walter, c/o CARMILE INVERSIONES LOPEZ Y CIA. S.C.A., Cali, Colombia; c/o CONSTRUCTORA SANTA TERESITA S.A., Cali, Colombia; c/o INVERSIONES MEDICAS Y QUIRUGICAS ESPECIALIZADAS LTDA., Cali, Colombia; c/o PRODUCTOS ALIMENTICIOS GLACIARES LTDA., Cali, Colombia; c/o UNIVISA S.A., Cali, Colombia; DOB 12 Jul 1954; POB Buga, Valle, Colombia; Cedula No. 19253056 (Colombia); Passport PO66566 (Colombia); (INDIVIDUAL) [SDNT].

12. NUNEZ BEJARANO, Carlos Eduardo, Carrera 24B Oeste No. 2-04, Cali, Colombia; DOB 07 Sep 1938; POB Buga, Valle, Colombia; Cedula No. 2729563 (Colombia); (INDIVIDUAL) [SDNT].

13. ROLDAN SALCEDO, Fabio, c/o CONSTRUCTORA SANTA TERESITA S.A., Cali, Colombia; DOB 08 Aug 1954; POB Buga, Valle, Colombia; Cedula No. 14875349 (Colombia); (INDIVIDUAL) [SDNT].

14. ROLDAN SALCEDO, Milena, c/o CARMILE INVERSIONES LOPEZ Y CIA. S.C.A., Cali, Colombia; c/o INVERSIONES MEDICAS Y QUIRUGICAS ESPECIALIZADAS LTDA., Cali, Colombia; c/o UNIVISA S.A., Cali, Colombia; DOB 09 Feb 1960; Cedula No. 38858586 (Colombia); Passport PO66565 (Colombia); (INDIVIDUAL) [SDNT].

15. SAAVEDRA ARCE, Rodrigo Eugenio, c/o CONSTRUCTORA SANTA TERESITA S.A., Cali, Colombia; c/o BOSQUE DE SANTA TERESITA LTDA., Cali, Colombia; c/o SAAVEDRA Y CIA. S. EN C., Cali, Colombia; DOB 30 Oct 1942; Cedula No. 16236683 (Colombia); Passport AF637666 (Colombia); (INDIVIDUAL) [SDNT].

16. SANCHEZ CONDE, Martha Cecilia, c/o ALIMENTOS CARNICOS DE TRADICION ESPANOLA LTDA., Cali, Colombia; c/o UNIVISA S.A., Cali, Colombia; DOB 30 Dec 1967; POB Cali, Colombia; Cedula No. 31981102 (Colombia); Passport AJ368943 (Colombia); (INDIVIDUAL) [SDNT].

17. SATIZABAL RENGIFO, Mario German (a.k.a. “Pelo de Cobre”); Colombia; DOB 04 Mar 1970; POB Buga, Valle, Colombia; Cedula No. 14892890 (Colombia); (INDIVIDUAL) [SDNT].

18. TASCON ROJAS, Servio Tulio, c/o UNIVISA S.A., Cali, Colombia; DOB 02 Nov 1938; Alt. DOB 11 Feb 1938; Cedula No. 2729445 (Colombia); (INDIVIDUAL) [SDNT].

19. YORDAN CARDENAS, Augusto Guillermo, c/o PRODUCTOS ALIMENTICIOS GLACIARES LTDA., Cali, Colombia; c/o UNIVISA S.A., Cali, Colombia; DOB 01 Jan 1965; POB Cali, Colombia; Cedula No. 14886699 (Colombia); (INDIVIDUAL) [SDNT].

Entities

1. AGROINDUSTRIAS JORDANES S.A. (a.k.a. JORDANES PARRILLA ARGENTINA); Calle 8 No. 25-46, Cali, Colombia; Calle 9A Norte No. 4N-23, Oficina 101E, Cali, Colombia; Calle 18N No. 9-07, Cali, Colombia; Carrera 98 No. 16-200, Local R6, Cali, Colombia; Carrera 105 Calle 15D, Loc. 5 y 6, Cali, Colombia; NIT # 900092924-9 (Colombia); (ENTITY) [SDNT].

2. ALIMENTOS CARNICOS DE TRADICION ESPANOLA LTDA. (a.k.a. “ALICANTE”); Calle 12 No. 12-58, Cali, Colombia; NIT # 900229820-2 (Colombia); (ENTITY) [SDNT].

3. BOSQUE DE SANTA TERESITA LTDA., Avenida 6N No. 17-92, Of. 411-412, Cali, Colombia; NIT # 800117606-9 (Colombia); (ENTITY) [SDNT].

4. CARMILE INVERSIONES LOPEZ Y CIA. S.C.A. (a.k.a. ESTACION DE SERVICIO EL OASIS DE PASOANCHO; a.k.a. FOOD MART OASIS; f.k.a. COMERCIALIZADORA CARMILE Y CIA. S.C.A.); Calle 13 No. 31-42, Cali, Colombia; NIT # 890329543-0 (Colombia); (ENTITY) [SDNT].

5. CONSTRUCTORA SANTA TERESITA S.A., Avenida 6 Norte No. 17-92 Of. 411, Cali, Colombia; NIT # 805028212-7 (Colombia); (ENTITY) [SDNT].

6. ERA DE LUZ LTDA. LIBRERIA CAFE, Calle 16 No. 100-98, Cali, Colombia; NIT # 805015908-8 (Colombia); (ENTITY) [SDNT].

7. FEGO CANA E.U., Calle 11A No. 116-40 Casa 3, Cali, Colombia; NIT # 830500953-0 (Colombia); Matricula Mercantil No 680975-15 (Colombia); (ENTITY) [SDNT].

8. IMERCO LTDA., Calle Ruta Buga—Tulua 4 Kilometros despues de San Pedro, San Pedro, Valle, Colombia; NIT # 810004154-2 (Colombia); (ENTITY) [SDNT].

9. INVERSIONES EN GANADERIA JESSICA, Carrera 10 Este No. 7-11, Cali, Colombia; Matricula Mercantil No 281899-1 (Colombia); (ENTITY) [SDNT].

10. INVERSIONES MEDICAS Y QUIRUGICAS ESPECIALIZADAS LTDA., Calle 13 No. 31-42, Cali, Colombia; NIT # 800171266-7 (Colombia); (ENTITY) [SDNT].

11. PRODUCTOS ALIMENTICIOS GLACIARES LTDA. (f.k.a. FRONTERA REPRESENTACIONES LTDA.); Carrera 84 No. 15-26, Cali, Colombia; NIT # 805027303-4 (Colombia); (ENTITY) [SDNT].

12. RESTAURANTE BAR PUNTA DEL ESTE, Calle 17N No. 9N-05, Cali, Colombia; Matricula Mercantil No 387183-1 (Colombia); (ENTITY) [SDNT].

13. SAAVEDRA Y CIA. S. EN C., Avenida 6N No. 17-92 Of. 411-412, Cali, Colombia; NIT # 890332983-9 (Colombia); (ENTITY) [SDNT].

14. SERVIAGRICOLA CIFUENTES E.U., Calle 4 No. 35A-20 Of. 402, Cali, Colombia; NIT # 805025920-1 (Colombia); (ENTITY) [SDNT].

15. UNIVISA S.A., Calle 9 No. 4-50 Of. 301, Cali, Colombia; NIT # 805011494-2 (Colombia); (ENTITY) [SDNT].

16. V.I.P. PRODUCCIONES E.U., Calle 1A No. 55B-115, Cali, Colombia; NIT # 805031027-1 (Colombia); (ENTITY) [SDNT].

Dated: January 14, 2010.
Adam J. Szubin,
Director, Office of Foreign Assets Control.

[FR Doc. 2010-1002 Filed 1-20-10; 8:45 am]

BILLING CODE 4811-45-P